NUCLEAR REGULATORY COMMISSION

[Docket No. 70-1113; NRC-2023-0179]

Global Nuclear Fuel—Americas; Wilmington Nuclear Fuel Fabrication Facility

AGENCY: Nuclear Regulatory Commission.

ACTION: Environmental assessment and finding of no significant impact; issuance.

SUMMARY: The U.S. Nuclear Regulatory Commission (NRC) is reviewing the amendment submitted by the Global Nuclear Fuel—Americas (GNF-A) of Special Nuclear Materials (SNM) License SNM-1097 for the Wilmington nuclear fuel fabrication facility located near Wilmington, North Carolina. The NRC has prepared an environmental assessment (EA) for this proposed license amendment in accordance with its regulations. Based on the EA, the NRC has concluded that a finding of no significant impact (FONSI) is appropriate. The NRC is also conducting a safety evaluation of the proposed license amendment.

DATES: The EA and FONSI referenced in this document are available on November 1, 2023.

ADDRESSES: Please refer to Docket ID NRC-2023-0179 when contacting the NRC about the availability of information regarding this document. You may obtain publicly available information related to this document using any of the following methods:

• Federal Rulemaking Website: Go to http://www.regulations.gov and search for Docket ID NRC-2023-0179. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room reference staff at 1-800-397-4209, at 301-415-4737, or by email to PDR.Resource@nrc.gov. The ADAMS accession number for each document referenced in this document (if that document is available in ADAMS) is provided the first time that a document is referenced.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Jean Trefethen, Office of Nuclear Material Safety and Safeguards, U.S. Nuclear Regulatory Commission, Washington, DC 20555-0001; telephone: 301-415-0867; email: Jean.Trefethen@nrc.gov.

SUPPLEMENTARY INFORMATION:

I. Introduction

The NRC is reviewing a license amendment request (LAR) for license SNM-1097 for the GNF-A nuclear fuel fabrication facility located near Wilmington, North Carolina (ADAMS Accession No. ML22175A070). The licensee, GNF-A, is requesting authorization to possess and use special nuclear material to fabricate fuel using uranium enriched with up to 8 weight (wt) percent uranium 235 (U-235), also referred to as low enriched uranium plus.

The NRC staff has prepared a final EA as part of its review of this license amendment request in accordance with the requirements of part 51 of title 10 of the Code of Federal Regulations (10 CFR), “Environmental Protection Regulations for Domestic Licensing and Related Regulatory Functions.” Based on the final EA, the NRC has determined that an environmental impact statement (EIS) is not required for this proposed action and a FONSI is appropriate. The NRC is also conducting a safety evaluation of the proposed license amendment pursuant to 10 CFR part 70, and the results will be documented in a separate Safety Evaluation Report (SER). If GNF-A's license amendment request is approved, the NRC will issue the license amendment following publication of this final EA and FONSI and the SER in the Federal Register.

II. Final Environmental Assessment Summary

GNF-A is requesting changes to amend license SNM-1097 for the GNF-A nuclear fuel fabrication facility to possess and use special nuclear material to fabricate fuel using uranium enriched with up to 8 wt percent U-235. The NRC has assessed the potential environmental impacts of the proposed action and the no-action alternative. The results of the NRC's environmental review can be found in the final EA (ADAMS Accession No. ML23291A150). The NRC staff performed its environmental review in accordance with the requirements in 10 CFR part 51. In conducting the environmental review, the NRC considered information in the LAR; communications with the North Carolina State Historic Preservation Office (SHPO); as well as information provided by the North Carolina State Clearinghouse.

Approval of GNF-A's proposed LAR would authorize GNF-A to possess and use U-235 enriched up to 8 percent instead of the current limit of up to 5 percent in fabrication of fuel for nuclear power production facilities. The licensee would continue to perform fuel fabrication activities inside the current buildings and would not conduct any construction or land disturbance activities associated with the proposed action. Additionally, the proposed action would not change staffing level, or the number of shipments of special nuclear material or quantity of waste generated at the site. Liquid and air effluents, from all operations are anticipated to remain below the regulatory limits in 10 CFR part 20. Therefore, the NRC staff finds that there would be no impacts to the following resources areas: land use, geology and soils, water resources, ecology, meteorology, climate, air quality, noise, transportation, visual and scenic resources, and socioeconomic resources.

As discussed in this EA, no significant radiological or non-radiological impacts are expected to result from approval of the proposed action. Occupational dose estimates associated with the proposed action are expected to be as low as reasonably achievable and within the limits identified in 10 CFR 20.1201. Approval of the proposed action is not expected to result in measurable radiation exposure to a member of the public. Approval of the LAR would not result in construction or land disturbance activities. Therefore, the NRC staff has determined that pursuant to 10 CFR 51.31, preparation of an EIS is not required for the proposed action, and pursuant to 10 CFR 51.32, a FONSI is appropriate.

Furthermore, the NRC staff determined that this LAR does not have the potential to cause effects on historic properties, assuming those were present; therefore, in accordance with 36 CFR 800.3(a)(1), no consultation is required under Section 106 of the National Historic Preservation Act. The NRC staff consulted with the North Carolina SHPO via email dated December 22, 2022, (ADAMS Accession No. ML22349A694). The North Carolina SHPO responded via email dated January 17, 2023, (ADAMS Accession No. ML23032A372), indicating that it concurred with the NRC's determination that if historic properties were present there would be no effects. The NRC staff, with the assistance of the U.S. Fish and Wildlife Service Information for Planning and Consultation project planning tool, determined that the proposed action would have “no effect” on listed species and/or critical habitat given that the proposed action does not include construction or ground-disturbing activities.

III. Finding of No Significant Impact

Based on its review of the proposed action in the EA, in accordance with the requirements in 10 CFR part 51, the NRC has concluded that the proposed action, amending NRC license SNM-1097 for the GNF-A nuclear fuel fabrication facility, located near Wilmington North Carolina, will not significantly affect the quality of the human environment. Therefore, the NRC has determined, pursuant to 10 CFR 51.31, that preparation of an EIS is not required for the proposed action and a FONSI is appropriate.

Dated: October 27, 2023.
For the Nuclear Regulatory Commission.
Michelle S. Rome,
Chief, Environmental Review Materials Branch, Division of Rulemaking, Environment, and Financial Support, Office of Nuclear Material Safety, and Safeguards.

[FR Doc. 2023-24060 Filed 10-31-23; 8:45 am]

BILLING CODE 7590-01-P